DEPARTMENT OF TRANSPORTATION

Federal Aviation Administration

Notice of Extension of Scoping

AGENCY: Federal Aviation Administration (FAA), Department of Transportation (DOT).

ACTION: Notice of extension of scoping for the Programmatic Environmental Impact Statement for Licensing Launches of Horizontally Launched Vehicles and Reentries of Reentry Vehicles.

SUMMARY: The FAA is preparing a Programmatic Environmental Impact Statement (PEIS) in accordance with the National Environmental Policy Act (NEPA) of 1969 and the Council on Environmental Quality implementing regulations and is requesting comments in preparation of the PEIS. The FAA has extended public scoping for the PEIS to ensure that all interested government and private organizations, and the general public have an opportunity to express their concerns and identify topics that should be addressed in the PEIS. Scoping comments will be accepted until October 31, 2003. This PEIS will assess environmental impacts associated with the proposed action, reasonable alternatives including those identified during scoping, the no action alternative, and cumulative impacts. This PEIS will support decisions made to meet the FAA's responsibility to license commercial launch and reentry operations and the operation of launch and reentry sites consistent with public health and safety, safety of property, and the national security and foreign policy interests of the United States. Issuing a launch or reentry license is a Federal action and is therefore subject to NEPA review.

Proposed Action and Possible Alternatives: The proposed action for this PEIS is to license the launch and landing of horizontally launched vehicles and the reentry of reentry vehicles. A reentry vehicle is defined in 14 CFR 401.5 as “a vehicle designed to return from Earth orbit or outer space to Earth substantially intact. A reusable launch vehicle (RLV) that is designed to return from Earth orbit or outer space to Earth substantially intact is a reentry vehicle.” Launch, as defined in 14 CFR 401.5, means “to place or try to place a launch vehicle or reentry vehicle and any payload from Earth in a suborbital trajectory, in Earth orbit in outer space, or otherwise in outer space, and includes activities involved in the preparation of a launch vehicle for flight, when those activities take place at a launch site in the United States. The term launch includes the flight of a launch vehicle and pre-flight ground operations beginning with the arrival of a launch vehicle or payload at a U.S. launch site. For purposes of an expendable launch vehicle launch, flight ends after the licensee's last exercise of control over its launch vehicle. For purposes of an orbital RLV launch, flight ends after deployment of a payload for an RLV having payload deployment as a mission objective. For other orbital RLVs, flight ends upon completion of the first sustained, steady-state orbit of an RLV at its intended location.”

Alternatives to the proposed action may include activities such as not licensing horizontal launches, not licensing vertical reentries, not licensing horizontal reentries, not licensing powered reentries, and not licensing unpowered reentries.

FAA exercises licensing authority in accordance with the Commercial Space Launch Act and Commercial Space Transportation Licensing Regulations, 14 CFR Ch.III, which authorize the FAA to license the launch of a launch vehicle when conducted within the U.S. and those operated by U.S. citizens abroad. The scope of the PEIS would include launches on both orbital and suborbital trajectories.

In May 1992, the U.S. Department of Transportation issued the Final Programmatic Environmental Impact Statement for Commercial Reentry Vehicles that assessed the environmental impacts of licensing the unpowered reentry of reentry vehicles from space to Earth. This 1992 PEIS relied in part on the analysis in the Programmatic Environmental Assessment of Commercial Expendable Launch Vehicle Programs, February 1986.

In May 2001, the FAA issued the Programmatic Environmental Impact Statement for Licensing Launches, which assessed the environmental impacts of licensing commercial launches. This 2001 PEIS updated and replaced the 1986 Programmatic Environmental Assessment (EA).

The PEIS for Licensing Launches of Horizontally Launched Vehicles and Reentries of Reentry Vehicles will update and replace the 1992 PEIS and address the launch of horizontally launched vehicles and the reentry of all reentry vehicles.

Scoping: Public scoping will be conducted as part of the PEIS development process to ensure that all interested government and private organizations, and the general public have an opportunity to express their concerns and identify topics that should be addressed in the PEIS. The FAA has developed a public participation Web site (http://ast.faa.gov/), which provides information on the development of this PEIS and provides the public an opportunity to submit comments electronically. Materials on the web site include information about licensing and the NEPA process; frequently asked questions, a fact sheet on the PEIS; a comparison of the analysis of the previous programmatic documents; and public comment forms. Scoping meetings may be requested by organizations or individuals that feel their concerns cannot be met through the online opportunity to comment. Information regarding the development of the PEIS is available on the public participation web site at http://ast.faa.gov/, under the “What's new on the AST Web site “ Announcements” section.

To Submit Comments: Written comments, statements, and/or questions regarding scoping issues or the PEIS process should be addressed to Ms. Michon Washington, FAA Environmental Specialist, FAA PEIS, c/o ICF Consulting, 9300 Lee Highway, Fairfax, Virginia 22031; phone (703) 934-3950; fax (703) 934-3951; e-mail at FAA.PEIS@icfconsulting.com; or by Web site http://ast.faa.gov/. Comments should clearly identify and describe the specific issue(s) or topics to be included in the PEIS. To ensure sufficient time to consider issues identified during public scoping, comments should be submitted no later than October 31, 2003.

Charles Larsen,
(Acting) Manager, Space Systems Development Division.

[FR Doc. 03-26090 Filed 10-15-03; 8:45 am]

BILLING CODE 4910-13-P